DEPARTMENT OF LABOR

Employment and Training Administration

Proposed Collection; Comment Request

AGENCY: Employment and Training Administration, Labor.

ACTION: Notice.

SUMMARY: The Department of Labor, as part of its continuing effort to reduce paperwork and respondent burden, conducts a preclearance consultation process to provide the general public and Federal agencies with an opportunity to comment on proposed and/or continuing collections of information in accordance with the Paperwork Reduction Act of 1995 (PRA95) [44 U.S.C. 3506(c)(2)(A)]. This process helps to ensure that requested data can be provided in the desired format, reporting burdens are minimized, collection instruments are clearly understood, and the impact of collection requirements on respondents can be properly assessed. Currently, the Employment and Training Administration (ETA) is soliciting comments concerning the proposed continuation of a reporting and performance standards system for Indian and Native American programs under title I, section 166 of the Workforce Investment Act (WIA). A copy of the proposed Information Collection Request (ICR) can be obtained by contacting the office listed below in the address section of this notice.

DATES: Written comments must be submitted to the office listed in the addressee section below on or before June 9, 2003.

ADDRESSES: James C. DeLuca, Chief, Division of Indian and Native American Programs, Employment and Training Administration, U.S. Department of Labor, Room N-4641, 200 Constitution Avenue, NW., Washington, DC 20210. Telephone: (202) 693-3754 (VOICE) or (202) 693-3818 (FAX) (these are not toll-free numbers) or INTERNET: DeLuca,James@dol.gov.

SUPPLEMENTARY INFORMATION:

I. Background

The Employment and Training Administration of the Department of Labor is requesting continuation of the current reporting and performance standards system for Workforce Investment Act (WIA), title I, section 166, Indian and Native American grantees for one year (April 1, 2003 to March 31, 2004), in part to coincide with the expiration of the section 166 financial report (ETA-9080) which is currently approved through March 31, 2004 under OMB Control Number 1205-0423. In evaluating the last few years' reporting experience of the grantees who receive funding under WIA section 166, including those receiving Supplemental Youth Services (SYS) funds, and, in light of the continuing statutory requirements of WIA applicable to section 166 grantees, the Department has decided to extend the currently-approved reporting requirements which it believes supports the current statutory requirements under WIA as they relate to the Indian and Native American Program. The only anticipated change(s) would be to accommodate the information collection requirements of the Administration's proposed “Common Measures” for evaluating all Federally-funded employment and training programs. Further details of these possible changes are available on request. However, it should be noted that the Workforce Investment Act comes up for reauthorization during 2003, which could result in additional, statutorily-mandated reporting changes which would need to be covered in this data collection.

II. Review Focus

The Department of Labor is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Action

This ICR will be used by approximately 145 Workforce Investment Act (WIA) section 166 grantees as the primary reporting and performance measurement vehicle for enrolled individuals, their characteristics, training and services provided, outcomes, including job placement and employability enhancements, as well as detailed financial data on program expenditures. Grantees participating in the demonstration under Public Law 102-477 will not be affected by this collection, and have not been included in the following burden estimates.

Type of Review: Extension.

Agency: Employment and Training Administration.

Title: Reporting and performance system for WIA, title I, section 166, Indian and Native American grantees.

OMB Number (current): 1205-0422.

Catalog of Federal Domestic Assistance Number: 17.265 (for PY 2002 and beyond).

Recordkeeping: Grantees shall retain supporting and other documents necessary for the compilation and submission of the subject reports for three years after submission of the final financial report for the grant in question [29 CFR 97.42 and/or 29 CFR 95.53]. It should be noted that the burden estimates for this collection as originally approved by OMB in April of 2001 were for 27,795 responses totaling some 78,615 hours.

Affected Public: Federally-recognized Indian tribes, bands, and groups; Alaskan Native entities; Hawaiian Native entities; private non-profit Indian-controlled organizations; State Indian Commissions or Councils (Native American-controlled); consortia of any and/or all of the above.

Cite/Reference/Form/etc.: ETA-9084 and ETA-9085.

Form No. | Respondents | Frequency | Total responses | Average time per response | Total burden hours
ETA-9084 (Comprehensive services) | 145 | semi-annual | 290 | 9.67 | 2,804
ETA-9085 (Supplemental Youth Services) | 105 | semi-annual | 210 | 9.67 | 2,031
Recordkeeping | 145 | (as needed) | 27,295 | 9.67 | 73,780
Total | 250 | semi-annual | 27,795 | 9.67 | 78,615

Total Burden Cost (capital/startup): $0.

Total Burden Cost (operating/maintaining): Costs associated with this collection will vary widely among grantees, from nearly no additional cost to some higher figure, depending on the state of automation attained by each grantee and the wages paid to the staff actually completing the various forms. However, because all expenditures associated with the preparation of these reports will come from the Federal grant funds themselves, there will be no costs to the grantees. The grantees will not be obligated to expend their own (i.e., non-DOL) resources to fulfill these reporting requirements. All costs associated with the submission of these forms are allowable grant expenses. Comments submitted in response to this comment request will be summarized and/or included in the request for Office of Management and Budget approval of the information collection request; they also will become a matter of public record.

Signed at Washington, DC, this 2nd day of April, 2003.
Emily Stover DeRocco,
Assistant Secretary, Employment and Training Administration.

[FR Doc. 03-8637 Filed 4-8-03; 8:45 am]

BILLING CODE 4510-30-P